DEPARTMENT OF AGRICULTURE

Food Safety and Inspection Service

[Docket No. FSIS-2019-0026]

Notice of Request for a New Information Collection: Focus Group Research to Inform Consumer Food Safety Education and Outreach

AGENCY: Food Safety and Inspection Service, USDA.

ACTION: Notice and request for comments.

SUMMARY: In accordance with the Paperwork Reduction Act of 1995 and Office of Management and Budget (OMB) regulations, the Food Safety and Inspection Service (FSIS) is announcing its intention to conduct focus groups with consumers to provide information to inform consumer education outreach efforts related to disseminating information to consumers about recalls and outbreaks and the labeling of meat and poultry products. This is a new information collection with an estimated burden of 411 hours.

DATES: Submit comments on or before February 10, 2020.

ADDRESSES: FSIS invites interested persons to submit comments on this Federal Register notice. Comments may be submitted by one of the following methods:

• Federal eRulemaking Portal: This website provides commenters the ability to type short comments directly into the comment field on the web page or to attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or Courier-Delivered submittals: Deliver to 1400 Independence Avenue SW, Room 6065, Washington, DC 20250-3700.

Instructions: All items submitted by mail or electronic mail must include the Agency name and docket number FSIS-2019-0026. Comments received in response to this docket will be made available for public inspection and posted without change, including any personal information, to http://www.regulations.gov.

Docket: For access to background documents or comments received, call (202)720-5627 to schedule a time to visit the FSIS Docket Room at 1400 Independence Avenue SW, Room 6065, Washington, DC 20250-3700.

FOR FURTHER INFORMATION CONTACT: Gina Kouba, Office of Policy and Program Development, Food Safety and Inspection Service, USDA, 1400 Independence Avenue SW, Room 6065, South Building, Washington, DC 20250-3700; (202) 720-5627.

SUPPLEMENTARY INFORMATION:

Title: Focus Group Research to Inform Consumer Food Safety Education and Outreach Efforts.

OMB Control Number: 0583-XXXX.

Type of Request: Request for a new information collection.

Abstract: FSIS has been delegated the authority to exercise the functions of the Secretary (7 CFR 2.18, 2.53), as specified in the Federal Meat Inspection Act (FMIA) (21 U.S.C. 601, et seq.). This statute mandates that FSIS protect the public by verifying that meat products are safe, wholesome, unadulterated, and properly labeled and packaged.

FSIS's Office of Public Affairs and Consumer Education (OPACE) develops consumer education programs concerning the safe handling, preparation, and storage of meat, poultry, and processed egg products to improve consumer food handling behaviors and minimize the incidence of foodborne illness. OPACE shares its food safety messages through the Food Safe Families campaign (a cooperative effort of USDA, the Food and Drug Administration [FDA], and the Centers for Disease Control and Prevention [CDC]); social media; Ask USDA (an online database of frequently asked food safety questions); the FSIS website; FoodSafety.gov (the cross-federal website operated by FSIS, FDA, and CDC used to promote safe food handling to consumers); the Meat and Poultry Hotline; and various publications, media releases, blogs and events. These messages are focused on the four core food safety behaviors: Clean, Separate, Cook, and Chill.

To collect information to inform OPACE's consumer education and outreach efforts, FSIS is requesting approval for a new information collection to conduct consumer focus groups. Focus group research is particularly useful in studies such as this one, because the research is exploratory in nature. This is a new information collection with an estimated burden of 411 hours.

FSIS plans to conduct two sets of focus groups on different topics: (1) Consumer understanding and response to FSIS Recall Notices and Public Health Alerts and (2) consumer understanding and use of manufacturer cooking instructions on ready-to-eat (RTE) and not-ready-to-eat (NRTE) meat and poultry products. FSIS has contracted with RTI International to conduct the two sets of focus groups. The focus group research will address Objective 1.2.3 of the FSIS Fiscal Years 2017-2021 Strategic Plan (https://www.fsis.usda.gov/wps/wcm/connect/317d14d6-1759-448e-941a-de3cbff289e5/Strategic-Plan-2017-2021.pdf?MOD=AJPERES), which is to “increase public awareness of recalls, foodborne illness, and safe food handling practices.”

For the first focus group topic, consumer understanding and response to USDA Recall Notices and Public Health Alerts, the findings will help FSIS learn how consumers understand and respond to FSIS recall notices and public health alerts and provide information to inform possible modifications to USDA's procedures for communicating information to consumers on recalls and outbreaks. RTI International will conduct two focus groups in each of four locations for a total of eight groups. To increase the homogeneity of the groups, the groups will be segmented by education level (four groups with a high school education or less and four groups with some college or a college degree) and age (four groups with people aged 18-35 years and four groups with people aged 36 and older).

For the second focus group topic, consumer understanding and use of manufacturer cooking instructions on RTE and NRTE meat and poultry products, the findings will help FSIS better understand how consumers use manufacturer cooking instructions to prepare RTE and NRTE meat and poultry products. FSIS can use this information to assess whether revisions to FSIS-mandated labeling features are needed to ensure that consumers safely handle and prepare RTE and NRTE meat and poultry products. RTI International will conduct two focus groups in each of four locations for a total of eight groups. To increase the homogeneity of the groups, the groups will be segmented by education level (four groups with a high school education or less and four groups with some college or a college degree) and age (four groups with people aged 18-35 years and four groups with people aged 36 and older).

For each set of focus groups, a local market research company in each location will recruit potential participants from their databases and other sources. They will also provide the facilities for hosting the focus group discussions. Using convenience sampling, a nonprobability sampling technique where subjects are selected because of their convenient accessibility instead of random selection, the market research companies will recruit potential participants who meet the eligibility criteria as defined by the screening questionnaires.

An experienced moderator will conduct the focus group discussions and use a facilitator guide, which will serve as an outline and provide structure for the focus group discussions. Each focus group discussion will be professionally recorded (audio and video) by the local market research companies. The audio-recordings will be professionally transcribed. RTI International will prepare detailed summaries of each discussion and review the summaries to identify common themes and any exceptions to these themes.

RTI International will summarize these findings in a final report to FSIS. No statistical analyses will be conducted.

Estimate of Burden: For the two sets of focus groups (8 groups per set for a total of 16 groups), it is expected that 1,280 individuals will complete the screening questionnaire, and it is assumed that 160 will be eligible and subsequently agree to participate in the focus group study (10 people per group). Each screening questionnaire is expected to take 8 minutes (0.133 hour). Taking part in the focus group discussion will take a total of 90 minutes (1.5 hours). The estimated annual reporting burden for the two sets of focus groups is 410.24 hours, which is the sum of the burden estimates for the screening and focus group discussion.

Estimated Annual Reporting Burden for the Focus Group Study
Study component | Estimated number of respondents | Annual frequency per response | Total annual responses | Hours per response | Total hours
Screening questionnaire | 1,280 | 1 | 1,280 | 0.133 (8 min.) | 170.66
Focus group discussion | 160 | 1 | 160 | 1.5 (90 min.) | 240
Total |  |  |  |  | 410.66

Respondents: Consumers.

Estimated Number of Respondents: 1,280.

Estimated Number of Annual Responses per Respondent: 1.

Estimated Total Burden on Respondents: 411 hours.

Copies of this information of this information collection assessment can be obtained from Gina Kouba, Office of Policy and Program Development, Food Safety and Inspection Service, USDA, 1400 Independence Avenue SW, Room 6065, South Building, Washington, DC 20250-3700; (202) 720-5627.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

Responses to this notice will be summarized and included in the request for OMB approval. All comments will also become a matter of public record.

Additional Public Notification

Public awareness of all segments of rulemaking and policy development is important. Consequently, FSIS will announce this Federal Register publication on-line through the FSIS web page located at: http://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Carmen M. Rottenberg,
Administrator.

[FR Doc. 2019-26694 Filed 12-11-19; 8:45 am]

BILLING CODE 3410-DM-P